OFFICE OF MANAGEMENT AND BUDGET

2 CFR Parts 180 and 200

Guidance for Reporting and Use of Information Concerning Recipient Integrity and Performance

AGENCY: Office of Management and Budget.

ACTION: Final rule; change in effective date.

SUMMARY: The Office of Management and Budget is advancing the effective date for the Guidance for Reporting and Use of Information Concerning Recipient Integrity and Performance final rule which published on July 22, 2015. The new effective date will be July 30, 2015, and the applicability date will remain January 1, 2016.

DATES: The effective date for the final guidance published July 22, 2015 (80 FR 43301), is changed from January 1, 2016, to July 30, 2015. The applicability date of the final guidance remains January 1, 2016.

FOR FURTHER INFORMATION CONTACT: If you have questions on this rule, call or email Rhea Hubbard, Office of Federal Financial Management, Office of Management and Budget, rhubbard@omb.eop.gov, telephone (202) 395-2743.

SUPPLEMENTARY INFORMATION: On July 22, 2015 (80 FR 43301), the Office of Management and Budget (OMB) issued a number of changes to Title 2 of the Code of Federal Regulations (2 CFR 180 and 2 CFR 200). These changes provided guidance to Federal agencies to implement Section 872 of the Duncan Hunter National Defense Authorization Act for Fiscal Year 2009. As section 872 required, OMB and the General Services Administration (GSA) have established an integrity and performance system that includes governmentwide data with specified information related to the integrity and performance of entities awarded Federal grants and contracts. This document is to advance the effective date to July 30, 2015 for the Guidance for Reporting and Use of Information Concerning Recipient Integrity and Performance final rule.

Mark Reger,
Deputy Controller.

[FR Doc. 2015-18745 Filed 7-29-15; 8:45 am]

BILLING CODE P